DEPARTMENT OF TRANSPORTATION

Federal Aviation Administration

Notice of Intent To Rule on Request To Release Airport Land at Santa Maria Public Airport, Santa Maria, CA

AGENCY: Federal Aviation Administration, Department of Transportation.

ACTION: Notice of request to release airport land.

SUMMARY: The Federal Aviation Administration (FAA) proposes to rule and invites public comment on the release of approximately 10.339 acres of airport property at Santa Maria Public Airport, Santa Maria, California, from all restrictions of the surplus property agreement. The purpose of the release is to authorize the sale of the property to permit redevelopment of the land for non-aeronautical purposes and use of the sale proceeds for airport purposes.

DATES: Comments must be received on or before July 9, 2004.

ADDRESSES: Comments on this application may be mailed or delivered in triplicate to the FAA at the following address: Federal Aviation Administration, Airports Division AWP-620, Federal Register Comment, 15000 Aviation Blvd., Lawndale, CA 90261. In addition, one copy of the comment must be mailed or delivered to Gary Rice, General Manager, Santa Maria Public Airport District, 3217 Terminal Drive, Santa Maria, CA 93455-1899, telephone (805) 922-1726.

FOR FURTHER INFORMATION CONTACT: Tony Garcia, Airports Compliance Specialist, Federal Aviation Administration, Airports Division, 15000 Aviation Blvd., Lawndale California 90261, telephone (310) 725-3634 and FAX (310) 725-6849. The Santa Maria Public Airport release request information may be reviewed in person by appointment at this same location or at the Santa Maria Public Airport, Santa Maria, California by contacting Gary Rice.

SUPPLEMENTARY INFORMATION: In accordance with the Wendell H. Ford Aviation Investment and Reform Act for the 21st Century (AIR 21), Public Law 10-181 (Apr. 5, 2000; 114 Stat. 61), this notice must be published in the Federal Register 30 days before the Secretary may waive any condition imposed on a federally obligated airport's interest in surplus property.

The following is a brief overview of the request:

The Santa Maria Public Airport District requested a release from surplus property agreement obligations for approximately 10.339 acres of airport land at Santa Maria Public Airport, Santa Maria, California, originally acquired from the United States for airport purposes. The land is composed of three adjoining parcels located on the north side of the airport adjacent to West Fairway Drive on the south and A Street on the west. The property is currently undeveloped, without structural improvements, and located in an area zoned for light industrial. The parcels are surrounded by non-aeronautical-use land and are separated from the airfield by several roadways, a flood control canal, and a golf course. The airport wishes to sell the land because property cannot be used for airport purposes. The property's redevelopment for non-aeronautical purposes will comply with local zoning and FAA compatible land-use requirements. The parcel will be sold at fair market value based on the land's appraised value, which will provide the airport with needed revenue for airport improvement and development, thereby providing a tangible and direct benefit to the airport and civil aviation.

Issued in Hawthorne, California, on May 13, 2004.
John Lott,
Manager, Safety and Standards Branch, Airports Division, Western-Pacific Region.

[FR Doc. 04-12990 Filed 6-8-04; 8:45 am]

BILLING CODE 4910-13-M